ENVIRONMENTAL PROTECTION AGENCY

[EPA-HQ-OW-2003-0064; FRL-9174-7; EPA ICR No. 1287.10; OMB Control No. 2040-0101]

Agency Information Collection Activities; Submission to OMB for Review and Approval; Comment Request; Recognition Application for Sustainable Water Leadership Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 12, 2010.

ADDRESSES: Submit your comments, referencing Docket ID No. EPA-HQ-OW-2003-0064, to (1) EPA online using http://www.regulations.gov (our preferred method), by e-mail to ow-docket@epa.gov, or by mail to: EPA Docket Center, Environmental Protection Agency, Water Docket, Mail Code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jason Bushta, Office of Water, Mail Code 4204M, Environmental Protection Agency, 1200 Pennsylvania Ave., NW., Washington, DC 20460; telephone number: (202) 564-3067; e-mail address: bushta.jason@epa.gov.

SUPPLEMENTARY INFORMATION: EPA has submitted the following ICR to OMB for review and approval according to the procedures prescribed in 5 CFR 1320.12. On February 19, 2010 (75 FR 7476), EPA sought comments on this ICR pursuant to 5 CFR 1320.8(d). EPA received no comments. Any additional comments on this ICR should be submitted to EPA and OMB within 30 days of this notice.

EPA has established a public docket for this ICR under Docket ID No. EPA-HQ-OW-2003-0064, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-9744.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Recognition Application for Sustainable Water Leadership Program (Renewal).

ICR numbers: EPA ICR No. 1287.10, OMB Control No. 2040-0101.

ICR Status: This ICR is scheduled to expire on February 28, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This Information Collection Request (ICR) calculates the burden and costs associated with the recognition application for the Sustainable Water Leadership Program, formerly the National Clean Water Act Recognition Awards Program and prior to that, the National Wastewater Management Excellence Awards Program.

This voluntary program has been updated to reflect new industry practices consistent with EPA's sustainable infrastructure initiatives and is authorized by Section 501(e) of the Clean Water Act (CWA). The Sustainable Water Leadership Program maintains elements from the previous Clean Water Act Recognition Awards Program, namely, excellence in operations and maintenance, biosolids, combined sewer overflows, pretreatment, and stormwater management, and also expands eligibility to community drinking water utilities and systems, as well as managed decentralized treatment systems (public or private). The development of the Sustainable Water Leadership Program is the latest evolution in EPA's commitment to recognize and award outstanding and innovative utility management practices.

Burden Statement: The annual public reporting and recordkeeping burden for this collection of information is estimated to average 20 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Water Supply and Irrigation Systems, Sewage Treatment Facilities, Engineering Services, Refuse Systems, Colleges, Universities, Professional Schools, Air and Water Resource and Solid Waste Management.

Estimated Number of Respondents: 679.

Frequency of Response: Biennially.

Estimated Total Annual Hour Burden: 13,574.

Estimated Total Annual Cost: $614,919, includes no annualized capital or O&M costs.

Changes in the Estimates: There is an increase of 11,544 hours in the total estimated burden currently identified in the OMB Inventory of Approved ICR Burdens. This is due to changes and adjustments in the number and types of applicants eligible for recognition, which are expected to attract more applicants. Additionally, this ICR now encompasses burden hours for pretreatment awards which have until now been covered under a separate ICR for the National Pretreatment Program (OMB Control No. 2040-0009, EPA ICR No. 0002.14).

Dated: July 6, 2010.
John Moses,
Director, Collection Strategies Division.

[FR Doc. 2010-17044 Filed 7-12-10; 8:45 am]

BILLING CODE 6560-50-P